SECURITIES AND EXCHANGE COMMISSION

[File No. 500-1]

In the Matter of American Heritage International Inc.; Order of Suspension of Trading

December 16, 2014.

It appears to the Securities and Exchange Commission that there is a lack of current and accurate information concerning the securities of American Heritage International Inc. (“American Heritage”) because of concerns regarding potentially manipulative activity related to American Heritage common stock. American Heritage is a Nevada corporation with its principal place of business located in Las Vegas, Nevada. Its stock is quoted on OTC Link (previously “Pink Sheets”) operated by OTC Markets Group Inc., and on OTC Bulletin Board under the ticker symbol: AHII.

The Commission is of the opinion that the public interest and the protection of investors require a suspension of trading in the securities of the above-listed company.

Therefore, it is ordered, pursuant to Section 12(k) of the Securities Exchange Act of 1934, that trading in the securities of the above-listed company is suspended for the period from 9:30 a.m. EST, on December 16, 2014 through 11:59 p.m. EST, on December 30, 2014.

By the Commission.
Jill M. Peterson,
Assistant Secretary.

[FR Doc. 2014-30348 Filed 12-23-14; 11:15 am]

BILLING CODE 8011-01-P